DEPARTMENT OF THE INTERIOR

National Park Service

[NPS-WASO-NAGPRA-NPS0036468; PPWOCRADN0-PCU00RP14.R50000]

Notice of Inventory Completion: Gilcrease Museum, Tulsa, OK

AGENCY: National Park Service, Interior.

ACTION: Notice.

SUMMARY: In accordance with the Native American Graves Protection and Repatriation Act (NAGPRA), the Gilcrease Museum has completed an inventory of human remains and associated funerary objects and has determined that there is a cultural affiliation between the human remains and associated funerary objects and Indian Tribes or Native Hawaiian organizations in this notice. The human remains and associated funerary objects were removed from Crittenden, Cross, Mississippi, and Poinsett Counties in Arkansas.

DATES: Repatriation of the human remains and associated funerary objects in this notice may occur on or after September 27, 2023.

ADDRESSES: Laura Bryant, Gilcrease Museum, 800 S Tucker Drive, Tulsa, OK 74104, telephone (918) 596-2747, email laura-bryant@utulsa.edu.

SUPPLEMENTARY INFORMATION: This notice is published as part of the National Park Service's administrative responsibilities under NAGPRA. The determinations in this notice are the sole responsibility of the Gilcrease Museum. The National Park Service is not responsible for the determinations in this notice. Additional information on the determinations in this notice, including the results of consultation, can be found in the inventory or related records held by the Gilcrease Museum.

Description

Human remains representing, at minimum, 25 individuals were removed from Crittenden County, AR. Between 1957 and 1959, Gregory Perino removed these human remains from the Banks site. The 400 associated funerary objects are 90 lots consisting of ceramic vessels, four lots consisting of broken vessels, 247 lots consisting of pottery sherds, one lot consisting of ceramic plugs, 10 lots consisting of lithic points, one lot consisting of lithic flakes, one lot consisting of chunkey stones, eight lots consisting of worked stone, three lots consisting of shell ornaments and worked shell, one lot consisting of pigments and ochre, eight lots consisting of daub, two lots consisting of pipes, 13 lots consisting of faunal remains and fish scales, one lot consisting of beads, three lots consisting of bone tools, two lots consisting of charcoal, four lots consisting of sediment, and one lot consisting of corn fragments.

Human remains representing, at minimum, one individual were removed from Crittenden County, AR. In 1958, Gregory Perino removed these human remains from the Bradley site. The six associated funerary objects are three lots consisting of ceramic vessels, one lot consisting of copper beads, one lot consisting of chunkey stones, and one lot consisting of stone tools, including projectile points and hoes.

Human remains representing, at minimum, 23 individuals were removed from Cross County, AR. In 1958, Gregory Perino removed these human remains from the Cherry Valley site. The 36 associated funerary objects are 14 lots consisting of intact ceramic vessels, 13 lots consisting of broken ceramic vessels, two lots consisting of ceramic sherds and earspools, one lot consisting of worked lithics, two lots consisting of charcoal, two lots consisting of wood, and two lots consisting of shell beads.

Human remains representing, at minimum, three individuals were removed from Cross County, AR. In 1957, Gregory Perino removed these human remains from Rose Mound. The nine associated funerary objects are five lots consisting of ceramic vessels, two lots consisting of stone tools, one lot consisting of faunal remains, and one lot consisting of worked shell, including ear plugs and beads.

Human remains representing, at minimum, one individual were removed from Mississippi County, AR. In 1960, Gregory Perino removed these human remains from the Shawnee Village Site (3MS7). The one associated funerary object is one lot consisting of corn cobs.

Human remains representing, at minimum, five individuals were removed from Poinsett County, AR. These human remains were removed from the Stott Site (3PO26), likely by Elbert Hawkins sometime in the 1970s. The eight associated funerary objects are three lots consisting of pottery sherds, one lot consisting of ceramic vessels, one lot consisting of lithic tools, two lots consisting of faunal remains, and one lot consisting of shells.

Human remains representing, at minimum, one individual were removed from Poinsett County, AR, likely by Frank Soday sometime in the mid-20th century. No associated funerary objects are present.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, historical, oral traditional, and other relevant information.

Determinations

Pursuant to NAGPRA and its implementing regulations, and after consultation with the appropriate Indian Tribes and Native Hawaiian organizations, the Gilcrease Museum has determined that:

• The human remains described in this notice represent the physical remains of 59 individuals of Native American ancestry.

• The 460 objects described in this notice are reasonably believed to have been placed with or near individual human remains at the time of death or later as part of the death rite or ceremony.

• There is a relationship of shared group identity that can be reasonably traced between the human remains and associated funerary objects described in this notice and the Quapaw Nation.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after September 27, 2023. If competing requests for repatriation are received, the Gilcrease Museum must determine the most appropriate requestor prior to repatriation. Requests for joint repatriation of the human remains and associated funerary objects are considered a single request and not competing requests. The Gilcrease Museum is responsible for sending a copy of this notice to the Indian Tribe identified in this notice.

Authority: Native American Graves Protection and Repatriation Act, 25 U.S.C. 3003, and the implementing regulations, 43 CFR 10.9, 10.10, and 10.14.

Dated: August 18, 2023.
Melanie O'Brien,
Manager, National NAGPRA Program.

[FR Doc. 2023-18505 Filed 8-25-23; 8:45 am]

BILLING CODE 4312-52-P